DEPARTMENT OF COMMERCE

National Oceanic and Atmospheric Administration

Agency Information Collection Activities; Submission to the Office of Management and Budget (OMB) for Review and Approval; Comment Request; Collection of High Resolution Spatial and Temporal Fishery To Support Scientific Research

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 29, 2021 during a 60-day comment period. This notice allows for an additional 30 days for public comments.

Agency: National Oceanic and Atmospheric Administration (NOAA), Commerce.

Title: Collection of High Resolution Spatial and Temporal Fishery Dependent Data to Support Scientific Research.

OMB Control Number: 0648-XXXX.

Form Number(s): None.

Type of Request: Regular Submission (new information collection).

Number of Respondents: 39.

Average Hours per Response: 30 minutes to complete registration, and 35 minutes per day for vessels collecting trip level data.

Total Annual Burden Hours: 908.

Needs and Uses: Commercial fishers from the Northeast and Mid-Atlantic will collaborate with NOAA Fisheries, Northeast Fisheries Science Center (NEFSC) Cooperative Research Branch to voluntarily collect detailed fishery dependent data during commercial fishing trips. Collection of information regarding fishing for commercial fisheries is necessary to fulfill the following statutory requirements: the Magnuson-Stevens Fishery Conservation and Management Act (16 U.S.C. 1801 et seq.).

Fishers will use the Fisheries Logbook Data Reporting Software (FLDRS) to collect high resolution information on fishing effort and catch. The goal is to enable fishers to collect more accurate and precise data on where and how many fish are caught, and how much effort was expended. This high resolution data will lead to improved accuracy of commercial fisheries data and better understanding of fishery dynamics. The FLDRS software was designed to record data at the haul (effort) level, similar to the level of data collected by the Northeast Fisheries Observer Program (NEFOP) but can be used to collect sub trip level data and is approved for federal eVTR. FLDRS can be integrated with Global Positioning Systems (GPS), Vessel Monitoring Systems (VMS), depth sounders and temperature/depth sensors. The FLDRS software can use the VMS to transmit a trip data file to NEFSC email account where it is ultimately uploaded to NEFSC database. Alternatively, the vessel operator can choose to manually upload trip files using the web-based application Vessel Electronic Reporting Web Portal (VERS).

Temperature and Depth (TD) data will be collected opportunistically and dependent on fisher interest. TD probes will be used to monitor the duration of time gear is fished in addition to collecting temperature and depth data. The high resolution catch data in conjunction with temperature depth data can be used to validate oceanographic and habitat models to produce oceanographic and species density forecasts for fishers. These species specific density forecast can be used as a tool while fishing to maximize efficiency and avoid limited stocks.

By collecting these data, we are improving the data available to support improved understanding of population, ecosystem, and fishery dynamics in the northeast region. These improved understandings help the Northeast Fisheries Science Center inform management so they can meet the standards laid out in the Magnuson Stevens Act. Without working with the fishing industry to collect these data we are severely restricting our access to the best available data to support needed research that informs management decisions.

Affected Public: Business or other for-profit organizations.

Frequency: As needed.

Respondent's Obligation: Voluntary.

Legal Authority: Magnuson Stevens Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-02602 Filed 2-7-22; 8:45 am]

BILLING CODE 3510-22-P